DEPARTMENT OF ENERGY

Federal Energy Regulatory Commission

[Docket No. RP96-383-015]

Dominion Transmission, Inc.; Notice or Proposed Changes in FERC Gas Tariff

December 12, 2000.

Take notice that on December 4, 2000, Dominion Transmission Inc. (DTI) tendered for filing as part of its FERC Gas Tariff, Third Revised Volume No. 1, the following revised tariff sheet, with an effective date of September 23, 2000.

Substitute Original Sheet No. 1401

DTI states that the purpose of this filing is to incorporate an approved tariff sheet from DTI's Second Revised Volume No. 1 into DTI's currently effective Third Revised Volume No. 1.

DTI states that copies of its letter of transmittal and enclosures have been served upon DTI's customers and interested state commissions.

Any person desiring to protest said filing should file a protest with the Federal Energy Regulatory Commission, 888 First Street, NE., Washington, DC 20426, in accordance with Section 385.211 of the Commission Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-32085 Filed 12-15-00; 8:45 am]

BILLING CODE 6717-01-M